DEPARTMENT OF ENERGY

Federal Energy Regulatory Commission

[Docket No. AD02-22-000]

Conference on Energy Infrastructure; Notice of Conference

September 13, 2002.

The Federal Energy Regulatory Commission (FERC) will hold a conference on energy infrastructure issues in the midwestern states on Wednesday, November 13, 2002 at the Sheraton Chicago Hotel and Towers, 301 East North Water Street, Chicago, Illinois.

The conference is for the purpose of discussing the adequacy of the electric, gas, and other energy infrastructure in the Midwest.

In addition to specialized panelists, the Governors and state utility commissioners of the midwestern states are being invited to participate. The goal is to identify the current state of infrastructure in the Midwest, present and future infrastructure needs, and the means and barriers to fulfilling those needs. We look forward to an informative discussion of the issues to clarify how we can facilitate and enhance a comprehensive collaborative approach to energy infrastructure development and reliability for the midwestern states. It is our firm belief that an adequate, well-functioning energy infrastructure is necessary to realize workable, competitive markets.

The one-day meeting will begin at 1 p.m. and conclude at 6 p.m. All interested parties are invited to attend. Hotel rooms have been blocked at the Sheraton under the code NAK07 for any attending guests to reserve a one-or two-night stay but will be released by October 13. You can still reserve a room after that date, but on a room and rate availability basis. Reservations can be made by calling 312-329-7000, or their toll free number, 877-242-2558.

To attend, please register online on the Commission Web site at http://www.ferc.gov/calendar/courses-outreach/coursesoutreach.htm. Scroll down and click on “Midwest Energy Infrastructure Conference”. There is no registration fee. We will issue further details on the conference, including the agenda and a list of participants, as plans evolve. For additional information, please contact Carol Connors in the Office of External Affairs at carol.connors@ferc.gov.

Magalie R. Salas,
Secretary.

[FR Doc. 02-23860 Filed 9-19-02; 8:45 am]

BILLING CODE 6717-01-P